DEPARTMENT OF HEALTH AND HUMAN SERVICES

Centers for Disease Control and Prevention

[30Day-22-1274]

Agency Forms Undergoing Paperwork Reduction Act Review

In accordance with the Paperwork Reduction Act of 1995, the Centers for Disease Control and Prevention (CDC) has submitted the information collection request titled “Million Hearts Hospitals & Health Systems Recognition Program” to the Office of Management and Budget (OMB) for review and approval. CDC previously published a “Proposed Data Collection Submitted for Public Comment and Recommendations” notice on September 17, 2021 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Million Hearts Hospitals & Health Systems Recognition Program (OMB Control No. 0920-1274, Exp. 11/30/2022)—Revision—National Center for Chronic Disease Prevention and Health Promotion (NCCDPHP), Centers for Disease Control and Prevention (CDC).

Background and Brief Description

Heart disease, stroke and other cardiovascular diseases (CVDs) kill over 800,000 Americans each year, accounting for one in every three deaths. CVD is the nation's number one killer among both men and women and the leading cause of health disparities. Million Hearts®, a national, public-private initiative co-led by the Centers for Disease Control and Prevention (CDC) and the Centers for Medicare & Medicaid Services (CMS), was established to address this issue. Whether migrating towards value-based reimbursement or simply striving for a significant impact in reducing the devastation of heart attacks and strokes, clinical organizations are positioned to improve the health of the population they serve by implementing high-impact, evidence-based strategies. Achieving a Million Hearts® Hospitals & Health Systems designation signals a commitment to not only clinical quality, but population health overall.

Initially launched in 2020, the Program will continue to recognize institutions that are working to systematically improve the cardiovascular health of the population and communities that they serve by implementing strategies under the new Million Hearts® priority areas of Building Healthy Communities, Optimizing Care, Focusing on Health Equity, and Supplemental Programs and Innovations. CDC anticipates that new applicants will range from health systems with multiple hospitals, hospitals with and without ambulatory medical practices, and medical practices not affiliated with hospitals.

Any clinical entity whose leaders consider it eligible may apply. Recognition can be achieved by a robust commitment to implement specific strategies, by implementing these specific strategies, and most importantly, by achieving specific outcomes. Applicants will complete the Million Hearts® Hospitals & Health Systems Recognition Program application, indicating the areas in which they are committing to implement Million Hearts® strategies; areas in which they have implemented key strategies; and those strategies for which they have achieved outcomes/results.

Applicants must address a minimum of one strategy in at least three of the four priority areas (Building Healthy Communities, Optimizing Care, Focusing on Health Equity, and Supplemental Programs and Innovations) that are outlined in the application. However, they are encouraged to target as many strategies as is appropriate for their institution. Applicants will be subject to a background check.

All applicants with reported outcomes and a select number of those who are committing to implement or are implementing Million Hearts® strategies, will be asked to participate in a semi-structured, qualitative interview. The purpose of the interview is to obtain in-depth contextual information about the Million Hearts® strategies and facilitators used to achieve improved cardiovascular outcomes among the applicant's patient population. Applicants with reported outcomes will receive increased recognition from Million Hearts® by having their success stories highlighted by Million Hearts® by placement on the Million Hearts® website, e-newsletter, etc.

The program's web-based application will stay open throughout the year and applications will be reviewed on a quarterly basis and recognized within six months of acceptable review. CDC estimates that information will be collected from up to 50 applicants per year. CDC will use the information collected through the Million Hearts® Hospitals & Health Systems Recognition Program to increase widespread attention on successful and sustainable implementation strategies, improve understanding of these strategies at the practice level, bring visibility to organizations that commit, implement, or have implemented Million Hearts® strategies and motivate other hospitals and health systems to strengthen their efforts to address CVD.

CDC requests OMB approval for an estimated 149 annual burden hours. Participation is voluntarily and there are no costs to respondents other than their time.

Estimated Annualized Burden Hours

Type of respondents | Form name | Number of respondents | Number of responses per respondent | Average burden per response (in hours)
Medical & Health Service Manager | Recognition Program Application | 50 | 1 | 2, 40/60
Medical & Health Service Manager | Interview Guide | 30 | 1 | 30/60

Jeffrey M. Zirger,
Lead, Information Collection Review Office, Office of Scientific Integrity, Office of Science, Centers for Disease Control and Prevention.

[FR Doc. 2022-13742 Filed 6-27-22; 8:45 am]

BILLING CODE 4163-18-P